DEPARTMENT OF JUSTICE

Antitrust Division

Notice Pursuant to the National Cooperative Research and Production Act of 1993—American Board of Orthopaedic Surgery

Notice is hereby given that, on September 20, 2004, pursuant to Section 6(a) of the National Cooperative Research and Production Act of 1993, 15 U.S.c. 4301 et seq. (“the Act”), American Board of Orthopaedic Surgery (“ABOS”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: American Board of Orthopaedic Surgery, Chapel Hill, NC. The nature and scope of ABOS's standards development activities are: Development of educational standards and standards for evaluating the qualifications and knowledge of physicians seeking voluntary certification in orthopaedic surgery.

Dorothy B. Fountain,
Deputy Director of Operations, Antitrust Division.

[FR Doc. 05-2159 Filed 2-3-05; 8:45 am]

BILLING CODE 4410-11-M